NATIONAL SCIENCE FOUNDATION

Sunshine Act Meetings; National Science Board

The National Science Board, pursuant to NSF regulations (45 CFR part 614), the National Science Foundation Act, as amended, (42 U.S.C. 1862n-5), and the Government in the Sunshine Act (5 U.S.C. 552b), hereby gives notice of a revision to an announcement of meetings for the transaction of National Science Board business.

FEDERAL REGISTER CITATION OF PREVIOUS ANNOUNCEMENT: 83 FR 59423-24, published on November 23, 2018.

PREVIOUSLY ANNOUNCED AGENDA OF ONE SESSION:

Thursday, November 29, 2018

Plenary Open Session: 1:15-1:45 p.m.

• Chair's Opening Remarks

• Director's Remarks

• Approval of Prior Minutes

• Open Committee Reports

• Vote: OIG Semiannual Report and Management Response

• Chair's Closing Remarks

REVISED AGENDA OF ONE SESSION:

Thursday, November 29, 2018

Plenary Open Session: 1:15-1:45 p.m.

• Chair's Opening Remarks

• Ceremonial Swearing-in of New Members

• Director's Remarks

• Approval of Prior Minutes

• Open Committee Reports

• Vote: OIG Semiannual Report and Management Response

• Chair's Closing Remarks

CONTACT PERSON FOR MORE INFORMATION: Brad Gutierrez, bgutierr@nsf.gov, 703/292-7000. Please refer to the National Science Board website for additional information. Meeting information and schedule updates (time, place, subject matter, and status of meeting) may be found at http://www.nsf.gov/nsb/meetings/notices.jsp#sunshine.

Chris Blair,
Executive Assistant, National Science Board Office.

[FR Doc. 2018-26301 Filed 11-29-18; 11:15 am]

BILLING CODE 7555-01-P